DEPARTMENT OF COMMERCE

National Institute of Standards and Technology

National Construction Safety Team Advisory Committee Meeting

AGENCY: National Institute of Standards and Technology, United States Department of Commerce.

ACTION: Notice of partially closed meeting.

SUMMARY: The Director of the National Institute of Standards and Technology announces that the National Construction Safety Team Federal Advisory Committee will meet on April 29-30, 2003.

DATES: The meeting will convene April 29, 2003, at 9 a.m. and will adjourn at noon on April 30, 2003. Members of the public wishing to attend the meeting must notify Steve Cauffman by c.o.b. Friday, April 25, 2003, per instructions under the SUPPLEMENTARY INFORMATION section of this notice.

ADDRESSES: The meeting will be held in the Employees Lounge, Administration Building, at NIST, Gaithersburg, Maryland. Please note admittance instructions under SUPPLEMENTARY INFORMATION section of this notice.

FOR FURTHER INFORMATION CONTACT: Stephen Cauffman, National Construction Safety Team Advisory Committee, National Institute of Standards and Technology, 100 Bureau Drive, MS 8610, Gaithersburg, Maryland 20899-8610, telephone number (301) 975-6051, fax (301) 975-6122, or via e-mail at stephen.cauffman@nist.gov.

SUPPLEMENTARY INFORMATION: In accordance with the requirements of the Federal Advisory Committee Act, 5 U.S.C. app. 2, notice is hereby given that the National Construction Safety Team (NCST) Advisory Committee (Committee), National Institute of Standards and Technology (NIST), will meet Tuesday, April 29, 2003, from 9 a.m. to 5 p.m. and Wednesday, April 30, 2003, from 8:30 a.m. to noon at NIST headquarters in Gaithersburg, Maryland.

The Committee was established pursuant to section 11 of the National Construction Safety Team Act (15 U.S.C. 7310). The Committee is composed of eight members appointed by the Director of NIST who were selected for their technical expertise and experience, established records of distinguished professional service, and their knowledge of issues affecting teams established under the NCST Act. Two additional members may be appointed at a later date. The Committee will advise the Director of NIST on carrying out investigations of building failures conducted under the authorities of the NCST Act that became law in October 2002 and will review the procedures developed to implement the NCST Act and reports issued under section 8 of the NCST Act.

The purpose of this meeting is to brief the Committee on the objectives and duties of the Committee as well as to provide an update on the two major investigations that NIST is currently conducting under the Act. The agenda will include briefings and discussions on the National Construction Safety Team Act, the World Trade Center Investigation, the Rhode Island Nightclub Fire Investigation, and National Construction Safety Team implementation.

Individuals and representatives of organizations who would like to offer comments and suggestions related to the Committee's affairs, the WTC Investigation, the Rhode Island Nightclub Investigation, and NCST Implementation are invited to request a place on the agenda. Approximately one hour will be reserved for public comments, and speaking times will be assigned on a first-come, first-served basis. The amount of time per speaker will be determined by the number of requests received, but is likely to be 5 minutes each. Speakers who wish to expand upon their oral statements, those who had wished to speak but could not be accommodated on the agenda, and those who were unable to attend in person are invited to submit written statements to the NCST Advisory Committee. Questions from the public will not be considered during this period.

The Assistant Secretary for Administration, with the concurrence of the General Counsel, formally determined on April 10, 2003, that portions of the meeting of the National Construction Safety Team Advisory Committee that involve discussions regarding the proprietary information and trade secrets of third parties, data and documents that may also be used in criinal cases or lawsuits, matters the premature disclosure of which would be likely to significantly frustrate implementation of a proposed agency action , and data collection status and the issuance of subpoenas may be closed in accordance with 5 U.S.C. 552b(c)(4), (5), (9)(B), and (10), respectively. The closed portion of the meeting is scheduled to begin at 8:30 a.m. and to end at noon on April 30, 2003. All other portions of the meeting will be open to the public. The agenda may change to accommodate Committee business. The final agenda will be posted on the Web site (http://www.ncstadvcom.gov).

All visitors to the National Institute of Standards and Technology site will have to pre-register to be admitted. Anyone wishing to attend this meeting must register by c.o.b. Friday, April 25, 2003, in order to attend. Please submit your name, time of arrival, e-mail address and phone number to Stephen Cauffman, and he will provide you with instructions for admittance. Non-U.S. citizens must also submit their country of citizenship, title, employer/sponsor, and address. Mr. Cauffman's e-mail address is stephen.cauffman@nist.gov and his phone number is (301) 975-6051.

Dated: April 11, 2003.
Karen H. Brown,
Deputy Director.

[FR Doc. 03-9346 Filed 4-11-03; 2:36 p.m.]

BILLING CODE 3510-13-P